INTERNATIONAL TRADE COMMISSION

[Investigation Nos. 701-TA-576-577 (Final)]

Cold-Drawn Mechanical Tubing from China and India

Determinations

On the basis of the record ¹ developed in the subject investigations, the United States International Trade Commission (“Commission”) determines, pursuant to the Tariff Act of 1930 (“the Act”), that an industry in the United States is materially injured by reason of imports of cold-drawn mechanical tubing from China and India, provided for in subheadings 7304.31.30, 7304.31.60, 7304.51.10, 7304.51.50, 7306.30.50, and 7306.50.50 of the Harmonized Tariff Schedule of the United States, that have been found by the Department of Commerce (“Commerce”) to be subsidized by the governments of China and India.²

¹ The record is defined in sec. 207.2(f) of the Commission's Rules of Practice and Procedure (19 CFR 207.2(f)).

² The Commission also finds that imports subject to Commerce's affirmative critical circumstances determination are not likely to undermine seriously the remedial effect of the countervailing duty order on cold-drawn mechanical tubing from China.

Background

The Commission, pursuant to section 705(b) of the Act (19 U.S.C. 1671d(b)), instituted these investigations effective April 19, 2017, following receipt of a petition filed with the Commission and Commerce by ArcelorMittal Tubular Products, Shelby, Ohio; Michigan Seamless Tube, LLC, South Lyon, Michigan; PTC Alliance Corp., Wexford, Pennsylvania; Webco Industries, Inc., Sand Springs, Oklahoma; and Zekelman Industries, Inc., Farrell, Pennsylvania. The final phase of the investigations was scheduled by the Commission following notification of preliminary determinations by Commerce that imports of cold-drawn mechanical tubing from China and India were subsidized within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register on October 5, 2017 (82 FR 46522). The hearing was held in Washington, DC, on December 6, 2017, and all persons who requested the opportunity were permitted to appear in person or by counsel.

The Commission made these determinations pursuant to section 705(b) of the Act (19 U.S.C. 1671d(b)). It completed and filed its determinations in these investigations on January 24, 2018. The views of the Commission are contained in USITC Publication 4755 (January 2018), entitled Cold-Drawn Mechanical Tubing from China and India: Investigation Nos. 701-TA-576-577 (Final).

By order of the Commission.
Issued: January 24, 2018.
Lisa R. Barton,
Secretary to the Commission.

[FR Doc. 2018-01685 Filed 1-29-18; 8:45 am]

BILLING CODE 7020-02-P